DEPARTMENT OF AGRICULTURE

Office of the Secretary

Privacy Act: Proposed New System of Records

AGENCY: Office of the Secretary, USDA.

ACTION: Notice of proposed new System of Records—USDA/FNS-10, entitled Persons Doing Business with the Food and Nutrition Service.

SUMMARY: In accordance with the requirements of the Privacy Act of 1974, as amended, 5 U.S.C. 552a, the United States Department of Agriculture (USDA), Food and Nutrition Service (FNS), is giving notice that it proposes to add a new system of records.

FNS is creating a new system of records to include the names, addresses and Social Security Numbers of persons involved in a direct payment relationship with FNS, including program sponsors, contractors and other individuals. The Debt Collection Improvement Act of 1996 (DCIA), Public Law 104-134, requires FNS to collect taxpayer identifying numbers (TINs) from all individuals and entities with which FNS does business, and to furnish the TIN with each certified voucher requesting payment. The Privacy Act of 1974, in turn, requires that before personal identifying information may be shared with other entities, a Privacy Act notice must be published. Therefore, FNS is publishing the accompanying notice announcing the establishment of a system of records providing routine uses to allow FNS to provide TINs to the Department of the Treasury for the purposes required under the Law.

EFFECTIVE DATE: This notice will be effective, without further notice, May 10, 2000 unless modified by a subsequent notice to incorporate comments received by the public. Comments must be received by the contact person listed below on or before May 1, 2000 to be assured consideration.

ADDRESSES: Comments should be addressed to: Lou Pastura, Director, Grants Management Division, Food and Nutrition Service, USDA, Room 407, 3101 Park Center Drive, Alexandria, Virginia 22302.

FOR FURTHER INFORMATION CONTACT: Mark Porter at (703) 305-2048.

SUPPLEMENTARY INFORMATION: The Debt Collection Act of 1982 (Pub. L. 97-365), as amended, provides statutory authority for Federal agencies to collect debts through administrative offset. The Debt Collection Improvement Act of 1996 (Pub. L. 104-134), expanded that statutory authority by requiring Federal agencies to obtain TINs from all individuals and entities doing business with it, and to furnish the TIN with each certified voucher requesting payment. This requirement enables the TINs of Federal payment recipients to be made available to match against a debtor masterfile to facilitate debt collection by administrative offset under the DCIA, and for income reporting to the Internal Revenue Service.

As a prerequisite to making TINs available for such purposes, the Privacy Act of 1974, as amended, requires that agencies that maintain a system of records must publish a notice in the Federal Register of the existence and character of the system of records. This includes each routine use of the records contained in the system including categories of users and the purpose of such use. Thus, FNS is proposing the following routine uses for this system of records, so that FNS can fully comply with the legislative mandate cited above.

This system of records contains personal information from individuals and entities who receive payments directly from FNS under any of the various nutrition and nutrition education programs FNS administers. The following information regarding individuals and entities is contained in the system: Name, home address, Social Security Number (SSN), and Employer Identification Number (EIN). The system may also include information such as company or sponsor name, and financial data such as amounts of payments to be made.

This system of records is not a financial management system that is used to track and identify financial payments which become delinquent; however, for FNS to be in compliance with the law as required by the DCIA, FNS must share with the Department of the Treasury the personal identifying information (such as the debtor's/payee's name, home address, SSN, and EIN (which is not considered a personal item of information)) of those individuals in this system to whom FNS is providing direct payment. As stated previously, FNS must publish a Privacy Act notice before personal identifying information may be shared with the Department of the Treasury.

A “Report on a New System,” required by 5 U.S.C. 552a(r), as implemented by OMB Circular A-130, was sent to the Chairman, Senate Committee on Governmental Affairs, the Chairman, House Committee on Government Reform and Oversight, and to the Administrator, Office of Information and Regulatory Affairs, of the Office of Management and Budget on March 27, 2000.

Signed at Washington, D.C. on March 27, 2000.
Dan Glickman,
Secretary of Agriculture.

USDA/FNS-10

SYSTEM NAME:

USDA/FNS-10 Persons Doing Business with the Food and Nutrition Service (FNS).

SECURITY CLASSIFICATION:

None.

SYSTEM LOCATION:

This system of records is under the control of the Deputy Administrator, Financial Management, Food and Nutrition Service, United States Department of Agriculture, 3101 Park Center Drive, Alexandria, Virginia 22302. The data is maintained in the Agency Financial Management System (AFMS), FNS's automated financial system.

CATEGORIES OF INDIVIDUALS COVERED BY THE SYSTEM:

The system consists of information on individuals who receive payments directly from FNS under any of the various nutrition and nutrition education programs FNS administers. These individuals may include program sponsors, contractors, and other individuals. They do not include program benefit recipients or State agencies.

CATEGORIES OF RECORDS IN THE SYSTEM:

The information in the system consists of individuals' names, addresses, Social Security Numbers, Employer Identification Numbers, and amounts of payments to be made. The system may also include information such as company or sponsor name.

AUTHORITY FOR MAINTENANCE OF THE SYSTEM:

31 U.S.C. 7701(c)(1), the Debt Collection Improvement Act of 1996 (Pub. L. 104-134), Debt Collection Act of 1982 as amended (Pub. L. 97-365), the Child Nutrition Act of 1966 as amended the National School Lunch Act as amended, and the Food Stamp Act of 1977 as amended.

PURPOSE:

To facilitate the Congressional mandate under the DCIA to provide taxpayer identification numbers on all appropriate requests for payment to facilitate debt collection by administrative offset under the DCIA, and for income reporting to the IRS.

ROUTINE USES OF RECORDS MAINTAINED IN THE SYSTEM, INCLUDING CATEGORIES OF USERS AND THE PURPOSES OF SUCH USES:

(1) USDA/FNS may disclose information from this system of records to the appropriate agency, whether Federal, State, or local, charged with the responsibility of investigating or prosecuting a violation of law, or of enforcing or implementing a statute, rule, regulations, or order issued pursuant thereto, of any record within this system when information available indicates a violation or potential violation of law, whether civil, criminal, or regulatory in nature, and whether arising by general statute or particular program statute, or by rule, regulation, or order issued pursuant thereto.

(2) USDA/FNS may disclose information from this system of records to a court, magistrate, or administrative tribunal, or to opposing counsel in a proceeding before any of the above, of any record within the system which constitutes evidence in that proceeding, or which is sought in the course of discovery.

(3) USDA/FNS may disclose information from this system of records to a congressional office from the record of an individual provided that individual gave the congressional office permission to inquire on his or her behalf.

(4) USDA/FNS may disclose information from this system of records of the Internal Revenue Service, for the purpose of reporting canceled debts of $600 or more for violations committed under FNS programs. Canceled debts will be reported to the Internal Revenue Service on Form 1099-C (Cancellation of Debt) under the authority of the Income Tax Regulations (26 CFR parts 1 and 602) under section 6050P of the Internal Revenue Code.

(5) USDA/FNS may disclose information from this system of records to the Department of the Treasury on requests for payments for purposes of administrative offset, to be effected in cases where entities participating in FNS programs owe delinquent debts to other Federal agencies.

Policies and practices for storing, retrieving, accessing, retaining and disposing of records in the system:

Storage:

Records are maintained in the Agency's AFMS system on magnetic tapes, on data disks, and in file folders at FNS Headquarters and at the National Computer Center facility in Kansas City.

Retrievability:

Records are retrievable by name, vendor number, and Social Security Number or Employer Identification Number.

Safeguards:

Access to records is limited to those persons who process the records for the specific routine uses stated above. Records in such formats as magnetic tape and disks are kept in physically secured rooms or cabinets. Various methods of computer security limit access to records in automated databases. Paper records are segregated and physically secured in locked cabinets.

Retention and disposal:

Records are maintained in the automated AFMS system indefinitely. Paper records, where they are held, are maintained for three years and then destroyed pursuant to the applicable document retention and disposal schedule.

System manager(s) and address:

Director, Accounting Division, Food and Nutrition Service, United States Department of Agriculture, 3101 Park Center Drive, Room 415, Alexandria, Virginia, 22302.

Notification Procedure:

Individuals may request from the system manager identified above information regarding this system of records or whether the system contains records pertaining to them. Any individual requesting such information must provide his or her name, address, and Social Security Number.

Record access procedure:

Individuals may obtain information about records in the system pertaining to them by submitting a written request to the system manager listed above. The envelope and letter should be marked “Privacy Act Request,” and should include the name, address, and Social Security Number of the individual for which the request is made.

Contesting record procedures:

Individuals desiring to contest or amend information maintained in the system should direct their requests to the system manager listed above, state the reason(s) for contesting the information, and provide any available documentation to support the requested action.

Record source categories:

Information in this system is provided by the applications and contracts entered into by entities participating in the programs FNS administers. Personal information in this system is also obtained from the owners and officers of such entities as reported on the program applications and contracts for services provided under these programs.

Exemptions claimed for the system:

None.

[FR Doc. 00-8005 Filed 3-30-00; 8:45 am]

BILLING CODE 3410-30-M